ENVIRONMENTAL PROTECTION AGENCY

[EPA-HQ-OPPT-2024-0508; FRL-12565-01-OMS]

Agency Information Collection Activities; Submission to the Office of Management and Budget for Review and Approval; Comment Request; Threshold Setting Data Needs for the Label Program for Low Embodied Carbon Construction Materials (New)

AGENCY: Environmental Protection Agency (EPA).

ACTION: Notice.

SUMMARY: The Environmental Protection Agency (EPA) has submitted an information collection request (ICR), Threshold Setting Data Needs for the Label Program for Low Embodied Carbon Construction Materials (EPA ICR Number 2805.01 and OMB Control Number 2070-NEW) to the Office of Management and Budget (OMB) for review and approval in accordance with the Paperwork Reduction Act. This is a request for a new ICR. Public comments were previously requested via the Federal Register on November 7, 2024. This notice allows for an additional 30 days for public comments.

DATES: Comments must be received on or before February 18, 2025.

ADDRESSES: Submit your comments to EPA, identified by docket identification (ID) number Docket ID No. EPA-HQ-OPPT-2024-0508, to EPA online using www.regulations.gov (our preferred method), or by mail to: EPA Docket Center, Environmental Protection Agency, Mail Code 28221T, 1200 Pennsylvania Ave. NW, Washington, DC 20460.

EPA's policy is that all comments received will be included in the public docket without change including any personal information provided, unless the comment includes profanity, threats, information claimed to be Confidential Business Information (CBI) or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Connie Ocampo, Mission Support Division (7602M), Office of Program Support, Office of Chemical Safety and Pollution Prevention, Environmental Protection Agency, 1200 Pennsylvania Ave. NW, Washington, DC 20460-0001; telephone number: (202) 566-1216; email address: ocampo.connie@epa.gov.

SUPPLEMENTARY INFORMATION: This a new ICR. An agency may not conduct or sponsor, and a person is not required to respond to, a collection of information, unless it displays a currently valid OMB control number. Public comments were previously requested via the Federal Register on November 7, 2024, at 89 FR 88277, establishing a 60-day comment period). This notice allows for an additional 30 days for public comments. Supporting documents, which explain in detail the information collection activities and related estimated burden and costs that are summarized in this document, are available in the docket. The docket can be viewed online at https://www.regulations.gov or in person at the EPA Docket Center, WJC West, Room 3334, 1301 Constitution Ave. NW, Washington, DC. The telephone number for the Docket Center is 202-566-1744. Additional instructions on commenting and visiting the docket is available at https://www.epa.gov/dockets.

Abstract: This ICR is for the EPA C-MORE (Construction Material Opportunities to Reduce Emissions) Program (previously referred to as a “Low Embodied Carbon Construction Materials Program”). Under this ICR, the Program is seeking approval to collect data to fulfill a number of vital information needs as the Program begins operations. The Program is seeking approval to collected data from state and local government agencies, architectural and engineering (A&E) firms, Program grantees, entities that access Program technical assistance, and entities involved in salvage and reuse operations. From state and local government agencies, the Program is seeking information on the types and amounts of asphalt, concrete, cement, glass, and steel purchased, including reference to Environmental Product Declarations (EPDs) associated with these products. The Program is seeking similar information from A&E firms, but focused solely on concrete. EPD information, along with data on amounts purchased of each product, will provide EPA with data that can be used in setting threshold values to define categories for labels under the Program. The underpinnings of being able to label construction materials with substantially lower levels of embodied greenhouse gas emissions is collecting, assessing the quality of, and analyzing data on embodied greenhouse gas emissions of products and materials and setting substantially lower embodied carbon emissions thresholds. To do so effectively, the Agency will need to supplement available data from public data sources with direct requests for information from users about the specifications for materials purchased and the volumes purchased. The Program has already issued grants to a set of entities and is seeking approval for the grantee outcome reporting forms under this ICR. The Program is also seeking approval for a survey that can be used to assess how well Program technical assistance is meeting the needs of its customers, as well as documenting outcomes associated with use of Program technical assistance. Finally, the Program is seeking approval to collect data on materials collected and used in salvage and reuse operations to better understand the potential for such materials to reduced emissions.

Form number(s): None.

Respondents/affected entities: Entities potentially affected include state government (NAICS code 9920), local governments (NAICS code 9930), construction (NAICS code 23), and construction of buildings (NAICS code 236).

Respondent's obligation to respond: Voluntary. 5 CFR 1320.5(d)(2).

Estimated number of potential respondents: 433.

Frequency of response: On occasion, annually.

Total estimated average number of responses for each respondent: 1.

Total estimated burden: 12,230 hours (per year). Burden is defined at 5 CFR 1320.3(b).

Total estimated costs: $2,137624 (per year), includes $0 annualized capital investment or maintenance and operational costs.

Changes in the estimates: This is a proposed new collection.

Courtney Kerwin,
Director, Information Engagement Division.

[FR Doc. 2025-01112 Filed 1-16-25; 8:45 am]

BILLING CODE 6560-50-P